ENVIRONMENTAL PROTECTION AGENCY

[FRL-8525-6]

Adaptation for Climate-Sensitive Ecosystems and Resources Advisory Committee (ACSERAC)

AGENCY: Environmental Protection Agency (EPA).

ACTION: Notice of a public conference call meeting; correction.

SUMMARY: The EPA indicated that reports being reviewed by the ACSERAC would be incorporated into a scientific assessment to be published by the U.S. Climate Change Science Program and that the public would have a chance to review and comment on the scientific assessment in April 2008. The availability of the scientific assessment for public review and comment is incorrect.

FOR FURTHER INFORMATION CONTACT: Joanna Foellmer, Designated Federal Official, ACSERAC, by telephone: 703-347-8508, by e-mail: foellmer.joanna@epa.gov, by fax: 703-347-8694, or by regular mail: Joanna Foellmer, ORD/NCEA (Mail Code 8601P), U.S. Environmental Protection Agency, 1200 Pennsylvania Avenue, NW., Washington, DC 20460.

Correction

In the Federal Register of January 7, 2008, in FR Doc. E8-17, on page 1221, in the second column, change the last complete sentence to read:

The CCSP expects that the scientific assessment will be completed by May 31, 2008. The scientific assessment will undergo an external peer review consistent with the OMB peer review guidance for a Highly Influential Scientific Assessment (HISA). For details on the scientific assessment review please go to: http://www.cio.noaa.gov/itmanagement/prplans/ID102.html.

Dated: January 25, 2008.
Michael W. Slimak,
Acting Deputy Director, National Center for Environmental Assessment.

[FR Doc. E8-2091 Filed 2-4-08; 8:45 am]

BILLING CODE 6560-50-P